DEPARTMENT OF COMMERCE

International Trade Administration

[A-487-002, A-729-805, A-552-853]

Steel Concrete Reinforcing Bar From Bulgaria, Egypt, and the Socialist Republic of Vietnam: Postponement of Preliminary Determinations in the Less-Than-Fair-Value Investigations

AGENCY: Enforcement and Compliance, International Trade Administration, Department of Commerce.

DATES: Applicable January 8, 2026.

FOR FURTHER INFORMATION CONTACT: Hermes Pinilla at (202) 482-3477 (Bulgaria); Anne Entz at (202) 482-3845 (Egypt), Kate Fracke at (202) 482-3299 (the Socialist Republic of Vietnam (Vietnam)), AD/CVD Operations, Enforcement and Compliance, International Trade Administration, U.S. Department of Commerce, 1401 Constitution Avenue NW, Washington, DC 20230.

SUPPLEMENTARY INFORMATION:

Background

On June 24, 2025, the U.S. Department of Commerce (Commerce) initiated less-than-fair-value (LTFV) investigations of imports of steel concrete reinforcing bar (rebar) from Bulgaria, Egypt, and Vietnam.¹ Currently, the preliminary determinations are due no later than January 20, 2026.²

¹ See Steel Concrete Reinforcing Bar from Algeria, Bulgaria, Egypt, and the Socialist Republic of Vietnam, 90 FR 27846 (June 30, 2025) (Initiation Notice).

² Commerce's practice dictates that, where a deadline falls on a weekend or federal holiday, the appropriate deadline is the next business day. Because the preliminary determination deadline falls on January 18, the appropriate deadline becomes January 20. See Notice of Clarification: Application of “Next Business Day” Rule for Administrative Determination Deadlines Pursuant to the Tariff Act of 1930, As Amended, 70 FR 24533 (May 10, 2005).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On December 18, 2025, the petitioner ³ submitted a timely request that Commerce postpone the preliminary determinations in these LTFV investigations.⁴ The petitioner stated that it requests postponement because “these investigations cover steel concrete reinforcing bar from multiple countries and thus require a significant amount of resources to fully investigate.” ⁵ Further, the petitioner noted that Commerce has only recently received responses to the initial questionnaires in these investigations, and thus Commerce needs additional time to analyze those responses and potentially issue supplemental questionnaires.⁶

³ The petitioner is the Rebar Trade Action Coalition (RTAC) and its individual members.

⁴ See Petitioner's Letter, “Request for Extension of Preliminary Determination Deadline,” dated December 18, 2025.

⁵ Id.

⁶ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than March 9, 2026.⁷ In accordance with section 735(a)(1) of the Act and 19 CFR 351.210(b)(1), the deadline for the final determinations of these investigations will continue to be 75 days after the date of the preliminary determinations, unless postponed at a later date.

⁷ Commerce has twice tolled deadlines for the preliminary determinations of these investigations, for a total of 68 days. See Memoranda, “Deadlines Affected by the Shutdown of Federal Government,” dated November 14, 2025; see also “Tolling of all Case Deadlines,” dated November 24, 2025.

This notice is issued and published pursuant to section 733(c)(2) of the Act and 19 CFR 351.205(f)(1).

Dated: January 5, 2026.
Christopher Abbott,
Deputy Assistant Secretary for Policy and Negotiations, performing the non-exclusive functions and duties of the Assistant Secretary for Enforcement and Compliance.

[FR Doc. 2026-00152 Filed 1-7-26; 8:45 am]

BILLING CODE 3510-DS-P